DEPARTMENT OF THE INTERIOR

National Park Service

[N6810; NPS-WASO-NAGPRA-NPS0041644; PPWOCRADN0-PCU00RP14.R50000]

Notice of Inventory Completion: Tennessee Department of Environment and Conservation, Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects from Carter, Claiborne, Greene, Hawkins, Sullivan, and Washington Counties, TN, and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Phillip R. Hodge, Tennessee Department of Environment and Conservation, Division of Archaeology (TDEC-DOA), 1216 Foster Avenue, Cole Building #3, Nashville, TN 37243, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, 40 individuals have been identified. The 22 associated funerary objects are 13 artifacts described below and nine lots of artifacts.

Site 40CR4, Carter County, TN

Human remains representing, at least, one individual. This material was donated to the Rocky Mount Historical Association and transferred to the TDOA for repatriation. No information is available regarding the circumstances surrounding the acquisition of these remains. There is no known exposure to hazardous substances or treatments.

Unknown Site, Claiborne County, TN

Human remains representing, at least, 14 individuals and one lot of associated funerary, unsorted artifacts. These ancestral remains and artifacts were donated to TDEC-DOA in October 2021 by Lincoln Memorial University. No further information is available regarding the circumstances surrounding the acquisition of these remains. There is no known exposure to hazardous substances or treatments.

Site 40GN2, Greene County, TN

Human remains representing, at least, one individual. No information is available regarding the circumstances surrounding the acquisition of these remains. There is no known exposure to hazardous substances or treatments.

Site 40GN6, Greene County, TN

Human remains representing, at least, five individuals. These remains were transferred to TDEC-DOA in 2019 by faculty from East Tennessee State University. No information is available regarding the circumstances surrounding their original acquisition. There is no known exposure to hazardous substances or treatments.

Site 40HW58, Hawkins County, TN

Human remains representing, at least, two individuals. These remains were transferred to TDEC-DOA from East Tennessee State University in 2008. No additional information is available regarding the circumstances surrounding recovery. There is no known exposure to hazardous substances or treatments.

Unknown Site, Hawkins County, TN

Human remains representing, at least, one individual. These remains from the William L. Jenkins Forensic Center were transferred to the Division of Archaeology in April 2017. No information exists as to the circumstances surrounding their collection. There is no known exposure to hazardous substances or treatments.

Site 40SL9, Sullivan County, TN

Human remains representing, at least, two individuals and four associated funerary objects. AFOs include two radiocarbon samples and two lots of artifacts from mortuary feature fill (missing). Salvage excavations performed by TDEC-DOA archaeologists prior to development in 1983 resulted in the recovery of these remains. There is no known exposure to hazardous substances or treatments.

Site 40SL10, Sullivan County, TN

Human remains representing, at least, 12 individuals and 17 associated funerary objects. AFOs include two stone objects, one chert projectile point/knife, one unknown object; possibly noncultural/mud dobber nest fragment, one small ceramic discoidal, one burned, drilled canid tooth strung onto thread; one drilled slate gorget with two holes, one fragmented turkey tarsometatarsus, one deer antler tine pressure flaker, one burned bone bead, and one vial of red ochre fragments. Lotted AFOs are six lots of fauna, lithic, shell, and bone tools. Salvage excavations performed by TDEC-DOA archaeologists prior to development in 1983 resulted in the recovery of these remains. There is no known exposure to hazardous substances or treatments.

Unknown Site, Sullivan County, TN

Human remains representing, at least, one individual. These remains were transferred to TDEC-DOA from the Rocky Mount Museum, where they were originally donated on behalf of the Rocky Mount Historical Association. No additional information exists regarding the circumstances of collection. There is no known exposure to hazardous substances or treatments.

Site 40WG20, Washington County, TN

Human remains representing, at least, one individual. These remains were donated to TDEC-DOA by East Tennessee State University in 2014. No information exists as to the circumstances surrounding their collection. There is no known exposure to hazardous substances or treatments.

Cultural Affiliation

Based on the information available and the results of consultation, cultural affiliation is reasonably identified by the geographical location or acquisition history of the human remains and associated funerary objects described in this notice.

Determinations

The TDEC-DOA has determined that:

• The human remains described in this notice represent the physical remains of at least 40 individuals of Native American ancestry.

• The 22 artifacts described in this notice are reasonably believed to have been placed intentionally with or near individual human remains at the time of death or later as part of the death rite or ceremony.

• There is a connection between the human remains and associated funerary objects described in this notice and the Cherokee Nation; Eastern Band of Cherokee Indians; The Muscogee (Creek) Nation; Thlopthlocco Tribal Town; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: December 11, 2025.
Melanie O'Brien,
Manager, National NAGPRA Program.

[FR Doc. 2025-23363 Filed 12-18-25; 8:45 am]

BILLING CODE 4312-52-P